DEPARTMENT OF TRANSPORTATION

Federal Highway Administration

[FHWA Docket No. FHWA-2005-23112]

Motorcyclist Advisory Council to the Federal Highway Administration

AGENCY: Federal Highway Administration (FHWA), DOT.

ACTION: Notice of meeting of advisory committee and change to membership.

SUMMARY: This document announces the fifth meeting of the Motorcyclist Advisory Council to the Federal Highway Administration (MAC-FHWA). The purpose of this meeting is to advise the Secretary of Transportation, through the Administrator of the Federal Highway Administration, on infrastructure issues of concern to motorcyclists, including: (1) Barrier design; (2) road design, construction, and maintenance practices; and (3) the architecture and implementation of intelligent transportation system technologies, pursuant to section 1914 of the Safe, Accountable, Flexible, Efficient Transportation Equity Act: A Legacy for Users (SAFETEA-LU).

DATES: The fifth meeting of the MAC-FHWA is scheduled for November 13, 2008, from 9 a.m. until 5 p.m.

ADDRESSES: The fifth MAC-FHWA meeting will be held at the Crystal City Marriott, 1999 Jefferson Davis Highway, Arlington, VA 22202.

FOR FURTHER INFORMATION CONTACT: Mr. Michael Halladay, the Designated Federal Official, Office of Safety, 202-366-2288, (michael.halladay@dot.gov), or Dr. Morris Oliver, Office of Safety, 202-366-2288, (morris.oliver@dot.gov), Federal Highway Administration, 1200 New Jersey Avenue, SE., Washington, DC 20590.

SUPPLEMENTARY INFORMATION:

Background

On August 10, 2005, the President signed into law the Safe, Accountable, Flexible, Efficient Transportation Equity Act: A Legacy for Users (SAFETEA-LU) (Pub. L. 109-59, 119 Stat. 1144). Section 1914 of SAFETEA-LU mandates the establishment of the Motorcyclist Advisory Council as follows: “The Secretary, acting through the Administrator of the Federal Highway Administration, in consultation with the Committee on Transportation and Infrastructure of the House of Representatives and the Committee on Environment and Public Works of the Senate, shall appoint a Motorcyclist Advisory Council to coordinate with and advise the Administrator on infrastructure issues of concern to motorcyclists, including—

(1) Barrier design;

(2) Road design, construction, and maintenance practices; and

(3) The architecture and implementation of intelligent transportation system technologies.”

In addition, section 1914 specifies the membership of the council: “The Council shall consist of not more than 10 members of the motorcycling community with professional expertise in national motorcyclist safety advocacy, including—

(1) At least—

(A) One member recommended by a national motorcyclist association;

(B) One member recommended by a national motorcycle riders foundation;

(C) One representative of the National Association of State Motorcycle Safety Administrators;

(D) Two members of State motorcyclists' organizations;

(E) One member recommended by a national organization that represents the builders of highway infrastructure;

(F) One member recommended by a national association that represents the traffic safety systems industry; and

(G) One member of a national safety organization; and

(2) At least one, and not more than two, motorcyclists who are traffic system design engineers or State transportation department officials.”

To carry out this requirement, the FHWA published a notice of intent to form an advisory committee in the Federal Register on December 23, 2005 (70 FR 76353). This notice, consistent with the requirements of the Federal Advisory Committee Act (FACA), announced the establishment of the Council and invited comments and nominations for membership. The FHWA announced the ten members selected to the Council in the Federal Register on October 5, 2006 (71 FR 58903). An electronic copy of this document and the previous Federal Register notices associated with the MAC-FHWA can be downloaded through the Federal eRulemaking Portal at: http://www.regulations.gov and the Office of the Federal Register's home page at: http://www.archives.gov/federal_register.

This notice also serves to identify a change in the MAC-FHWA membership due to a change in the relationship between Mr. Steven Zimmer, one of the original members of the MAC-FHWA, and ABATE of Ohio, making him ineligible for the position for which he was nominated. Mr. James D. “Doc” Reichenbach II, from ABATE of Florida, will replace Mr. Zimmer on the Council.

The FHWA anticipates that the MAC-FHWA will meet at least once a year, with meetings held in the Washington, DC, metropolitan area, and the FHWA will publish notices in the Federal Register to announce the times, dates, and locations of these meetings. Meetings of the Council are open to the public, and time will be provided in each meeting's schedule for comments by members of the public. Attendance will necessarily be limited by the size of the meeting room. Members of the public may present oral or written comments at the meeting or may present written materials by providing copies to Ms. Fran Bents, Westat, 1650 Research Boulevard, Rockville, MD 20850-3195, (240) 314-7557, 10 days prior to the meeting.

The agenda topics for the meetings will include a discussion of the following issues: (1) Barrier design; (2) road design, construction, and maintenance practices; and (3) the architecture and implementation of intelligent transportation system technologies.

Conclusion

The fifth meeting of the Motorcyclist Advisory Council to the Federal Highway Administration will be held on November 13, 2008, at the Crystal City Marriott, 1999 Jefferson Davis Highway, Arlington, VA 22202 from 9 a.m. until 5 p.m.

Authority: Section 1914 of Pub. L. 109-59; Pub. L. 92-463, 5 U.S.C., App. II § 1.

Issued on: October 09, 2008.
Thomas J. Madison, Jr.,
Federal Highway Administrator.

[FR Doc. E8-24606 Filed 10-15-08; 8:45 am]

BILLING CODE 4910-22-P